DEPARTMENT OF ENERGY

Federal Energy Regulatory Commission

[Project No. 14670-000]

Murphy Dam, LLC; Notice of Preliminary Permit Application Accepted for Filing and Soliciting Comments, Motions To Intervene, and Competing Applications

On March 20, 2015, Murphy Dam, LLC, filed an application for a preliminary permit, pursuant to section 4(f) of the Federal Power Act (FPA), proposing to study the feasibility of the Murphy Dam Hydroelectric Project (Murphy Dam Project) to be located on the Connecticut River, near Pittsburg, Coos County, New Hampshire. The sole purpose of a preliminary permit, if issued, is to grant the permit holder priority to file a license application during the permit term. A preliminary permit does not authorize the permit holder to perform any land-disturbing activities or otherwise enter upon lands or waters owned by others without the owners' express permission.

The proposed project would consist of the following: (1) An existing 100-foot-high, 2,100-foot-long earthen embankment dam; (2) an adjacent 300-foot-long concrete spillway with a stoplog and flashboard crest elevation of 1,385 feet National Geodetic Vertical Datum (NGVD); (3) the existing 2,020-acre Lake Francis with a storage capacity of 96,000 acre-feet; (4) a new 8-foot-diameter, 500-foot-long steel penstock connected to an existing 916-foot-long, steel-lined concrete outlet conduit and concrete intake structure; (5) a new 30-foot-wide, 40-foot long, 20-foot high powerhouse containing one Kaplan turbine-generator unit having a total installed capacity of 3.0 megawatts; (6) a new 30-foot-wide, 10-foot-deep, 100-foot-long, riprap-lined tailrace; (7) a new 1,600-foot-long, 12-kilovolt transmission line connecting the powerhouse to the Public Service of New Hampshire distribution system; and (8) appurtenant facilities. The estimated annual generation of the Murphy Dam Project would be about 12,400 megawatt-hours. The existing Murphy Dam and appurtenant works is owned by the New Hampshire Department of Environmental Services.

Applicant Contact: Mr. Mark Boumansour, Murphy Dam LLC, c/o Gravity Renewables, Inc. 1401 Walnut Street, Suite 220, Boulder, CO 80302; phone: (303) 615-3101; email: info@gravityrenewables.com.

FERC Contact: Patrick Crile; phone: (202) 502-8042 or email: Patrick.Crile@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14670-000.

More information about this project, including a copy of the application, can be viewed or printed on the “eLibrary” link of Commission's Web site at http://www.ferc.gov/docs-filing/elibrary.asp. Enter the docket number (P-14670) in the docket number field to access the document. For assistance, contact FERC Online Support.

Dated: April 21, 2015.
Kimberly D. Bose,
Secretary.

[FR Doc. 2015-09754 Filed 4-27-15; 8:45 am]

BILLING CODE 6717-01-P